DEPARTMENT OF ENERGY

Proposed Agency Information Collection Submitted for OMB Review and Comment.

AGENCY: U.S. Department of Energy.

ACTION: Notice and request for OMB review and approval.

SUMMARY: The Department of Energy (DOE) has submitted the proposed collection of information described in this Notice to the Office of Management and Budget (OMB) for review and approval, in accordance with the Paperwork Reduction Act of 1995. This electronic form will certify to DOE that respondents who wish to purchase DOE high-risk personal property will comply with all applicable U.S. Laws and Regulations.

DATES: Comments regarding this collection must be filed on or before February 12, 2003. If you anticipate that you will be submitting comments, but find it difficult to do so within the time period allowed by this Notice, please advise the OMB Desk Officer of your intention to make a submission as soon as possible. The Desk Officer may be telephoned at (202) 395-7318. In addition, please notify the DOE contact listed in this Notice.

ADDRESSES: Address comments to the DOE Desk Officer, Office of Information and Regulatory Affairs, Office of Management and Budget, New Executive Office Building, Room 10102, 735 17th Street, NW., Washington, DC 20503. (Comments should also be addressed to Susan L. Frey, Director, Records Management Division, IM-11/Germantown Bldg., Office of Business and Information Management, Office of the Chief Information Officer, U.S. Department of Energy, 1000 Independence Ave., SW., Washington DC, 20585-1290.

SUPPLEMENTARY INFORMATION: This package contains: (1) Title: End-Use Certificate; (2) OMB Control No.: NEW; (3) Type of Request: New; (4) Purpose: When acquiring High Risk Property from the Department of Energy, the End-Use Certificate (EUC) will be used to check respondents to determine if they are responsible, not debarred bidders, Specially Designated Nationals or Blocked Persons, or have not violated U.S. export laws, and to advise recipients that when property is to be exported, they must comply with all applicable U.S. Laws and Regulations, including the Arms Export Control Act (22 U.S.C. 2751 et seq); Export Administration Act of 1979 (50 U.S.C. App. 2401 et seq); continued under Executive Order 12924; International Traffic in Arms Regulations (ITAR) (22 CFR 120 et seq); Export Administration Regulations (EAR) (15 CFR 730 et seq); Foreign Assets Control Regulations (OFAC) (31 CFR 500 et seq); and the Espionage Act (18 U.S.C. 793 et seq). (5) Type of Respondents: Individuals or households; business or other for-profits, not-for-profit institutions; farms and state, local or tribal Government; (6) Estimated Number of Respondents: 5,000 perspective purchases; (7) Estimated Total Burden Hours: 1,650.

Statutory Authority: Paperwork Reduction Act of 1995, Public Law No. 104-13, 44 U.S.C Section 3507(a).

Issued in Washington, DC, on January 7, 2003.

Susan L. Frey,
Director, Records Management Division, Office of Business and Information Management, Office of the Chief Information Officer.

[FR Doc. 03-584 Filed 1-10-03; 8:45 am]

BILLING CODE 6450-01-P